DEPARTMENT OF LABOR

Employment and Training Administration

[TA-W-55,151]

Charleston Hosiery, Inc., Fort Payne, AL; Notice of Termination of Investigation

Pursuant to section 221 of the Trade Act of 1974, as amended, an investigation was initiated on June 28, 2004, in response to a petition filed on behalf of workers at Charleston Hosiery, Inc., Ft. Payne, Alabama.

The petition is invalid because two of the three workers have not been separated nor is there a threat of separation. Consequently, further investigation in this case would serve no purpose, and the investigation has been terminated.

Signed at Washington, DC, this 6th day of July, 2004.
Linda G. Poole,
Certifying Officer, Division of Trade Adjustment Assistance.

[FR Doc. 04-16427 Filed 7-19-04; 8:45 am]

BILLING CODE 4510-30-M